DEPARTMENT OF STATE

[Public Notice 6295]

Shipping Coordinating Committee; Notice of Subcommittee Meeting

The Shipping Coordinating Committee (SHC), through its Subcommittee on Dangerous Goods, Solid Cargos and Containers, will conduct an open meeting at 10 a.m. on Wednesday, September 17, 2008, in Room 6103 of the United States Coast Guard Headquarters Building, 2100 Second Street, SW., Washington, DC 20593. The primary purpose of the meeting is to prepare for the 13th Session of the International Maritime Organization (IMO) Sub-Committee on Dangerous Goods, Solid Cargoes and Containers (DSC) to be held at the IMO Headquarters in London, England from September 22-26, 2008. Matters to be considered include:

—Amendments to the International Maritime Dangerous Goods (IMDG) Code and Supplements including harmonization of the IMDG Code with the United Nations Recommendations on the Transport of Dangerous Goods.

—Amendments to the Code of Safe Practice for Solid Bulk Cargoes (BC Code) including evaluation of properties of solid bulk cargos.

—Amendments to the Code of Safe Practice for Cargo Stowage and Securing (CSS Code).

—Casualty and incident reports and analysis.

—Extension of the Code of Practice for the Safe Unloading and Loading of Bulk Carriers (BLU Code) to include grain.

—Guidance on providing safe working conditions for securing of containers.

—Review of the Recommendations on the Safe Use of Pesticides in Ships.

—Guidance on protective clothing.

—Revision of the Code of Safe Practice for Ships Carrying Timber Deck Cargoes.

—Form and procedure for approval of the Cargo Securing Manual.

—Stowage of water-reactive materials.

—Amendments to the International Convention for Safe Containers.

—Review of the Guidelines for Packing of Cargo Transport Units.

—Review of documentation requirements for dangerous goods in packaged form.

Members of the public may attend the meeting up to the seating capacity of the room. Interested persons may seek information by writing: Mr. R.C. Bornhorst, U.S. Coast Guard (CG-5223), Room 1210, 2100 Second Street, SW., Washington, DC 20593-0001 or by calling (202) 372-1426.

Dated: August 21, 2008.
Mark Skolnicki,
Executive Secretary, Shipping Coordinating Committee, Department of State.

[FR Doc. E8-20631 Filed 9-4-08; 8:45 am]

BILLING CODE 4710-09-P